DEPARTMENT OF DEFENSE

Department of the Army; Corps of Engineers

Plaquemines Parish, LA, Federal Hurricane Protection Levee

AGENCY: Department of the Army, U.S. Army Corps of Engineers, DOD.

ACTION: Notice of intent.

SUMMARY: The U.S. Army Corps of Engineers, Vicksburg District, in cooperation with the New Orleans District and the Louisiana Coastal Protection and Restoration Authority (the non-Federal sponsor), are undertaking studies to develop and evaluate possible alternatives to improve the storm damage reduction capability of the Federal levee system, Plaquemines Parish, LA.

DATES: Initiate Supplemental Environmental Impact Statement (SEIS) August 17, 2009.

ADDRESSES: Correspondence may be sent to Mr. Larry Marcy at the U.S. Army Corps of Engineers, Vicksburg District, CEMVK-PP-PQ, 4155 Clay Street, Vicksburg, MS 39183-3435.

FOR FURTHER INFORMATION CONTACT: Mr. Larry Marcy at the U.S. Army Corps of Engineers, Vicksburg District, telephone (601) 631-5965, fax number (601) 631-5115, or e-mail at larry.e.marcy@usace.army.mil.

SUPPLEMENTARY INFORMATION:

Proposed Action. It is the intent of the Vicksburg District to prepare an SEIS for the New Orleans to Venice (NOV) Federal Hurricane Protection levee. The NOV Federal Hurricane Protection project straddles the Mississippi River in Plaquemines Parish, Louisiana, between approximate River Miles 59 and 10. On the west bank, it includes 37 miles of back levee divided into four reaches (Reaches A, B-1, B-2, and St. Jude to City Price) and 34 miles of enlarged west bank Mississippi River levees. On the east bank, the project includes 16 miles of enlarged back levees (Reach C). This project is a Federal system designed to provide protection from hurricane tidal overflow in the lower Mississippi River delta region.

The purpose of the SEIS is to identify and evaluate structural and nonstructural storm damage reduction alternatives to address hurricane-related flooding problems in Plaquemines Parish. Additional work is needed to restore the Federal levees and floodwalls to the authorized level of protection where the levee and floodwalls are below grade due to subsidence and/or post-Katrina design changes.

Alternatives. Alternatives to address flooding problems will be identified and evaluated in cooperation with state and Federal agencies, local government, and the public.

Scoping. Scoping is the process for determining the range of the alternatives and significant issues to be addressed in the SEIS. A part of this analysis will include a letter sent to all parties believed to have an interest in the analysis, requesting their input on alternatives and issues to be evaluated. The letter will also notify interested parties of public scoping meetings that are being held in the local area. A meeting notice will be sent to the local news media. All interested parties are invited to comment at this time, and anyone interested in the study should request to be included on the mailing list.

Two public scoping meetings will be held on Saturday, September 12, 2009: one meeting will be held at the Woodland Plantation, 21997 Highway 23, West Point a La Hache, Louisiana, from 9 to 11:30 a.m. (open house from 9 until 9:30 a.m., scoping meeting to begin promptly at 9:30 a.m.); the second meeting will be held at Boothville Elementary School, #1 Oiler Drive, Boothville, Louisiana, from 3 to 5:30 p.m. (open house from 3 until 3:30 p.m., scoping meeting to begin promptly at 3:30).

Significant Issues. The tentative list of resources and issues to be evaluated in the SEIS includes aquatic resources, essential fish habitat, fisheries and wildlife resources, wetlands, water quality, air quality, threatened or endangered species, recreation resources, and cultural resources. Socioeconomic items to be evaluated in the SEIS include residential housing and business activity, tax revenues, population, community and regional growth, transportation, and community cohesion.

Environmental Consultation and Review. The U.S. Fish and Wildlife Service (FWS) will be asked to assist in the documentation of existing conditions, impact analysis of alternatives, and overall study review through the Fish and Wildlife Coordination Act (FWCA) consultation procedures. The FWS would provide an FWCA report to be incorporated into the SEIS. The FWS and National Marine Fisheries Service will be asked to be cooperating agencies. The draft SEIS or a Notice of Availability will be distributed to all interested agencies, organizations, individuals, congressionals, and Indian tribes.

Estimated Date of Availability. The draft SEIS is expected to be available in November 2010.

Daniel A. Johnson,
Acting Chief, Planning, Programs, and Project Management Division.

[FR Doc. E9-19230 Filed 8-10-09; 8:45 am]

BILLING CODE 3720-58-P